DEPARTMENT OF HEALTH AND HUMAN SERVICES

Centers for Disease Control and Prevention

[Docket Number NIOSH-227]

Determination on Adding Cancer, or a Certain Type of Cancer, to the List of WTC-Related Health Conditions

AGENCY: National Institute for Occupational Safety and Health (NIOSH) of the Centers for Disease Control and Prevention (CDC), Department of Health and Human Services (HHS).

ACTION: Notice.

SUMMARY: The National Institute for Occupational Safety and Health (NIOSH) of the Centers for Disease Control and Prevention (CDC) announces the availability of the “First Periodic Review of Scientific and Medical Evidence Related to Cancer for the World Trade Center Health Program.” The Review can be found at: http://www.cdc.gov/niosh/topics/wtc/prc/prc-1.html.

Background: The James Zadroga 9/11 Health and Compensation Act of 2010 (Pub. L. 111-347), Title XXXIII of the Public Health Service Act, 124 Stat. 3623 (codified at 42 U.S.C. 300mm-300mm-61) requires in Section 300mm-22(a)(5)(A) that the Administrator of the World Trade Center (WTC) Health Program “periodically conduct a review of all available scientific and medical evidence, including findings and recommendations of Clinical Centers of Excellence, published in peer-reviewed journals to determine if, based on such evidence, cancer or a certain type of cancer should be added to the applicable list of WTC-related health conditions.”

The first periodic Review of Cancer provides a summary of the current scientific and medical findings in the peer-reviewed literature about exposures resulting from the September 11, 2001 terrorist attacks in New York City and cancer studies. The review discusses criteria that have been used previously to assist in weighing the scientific evidence to determine if a causal association exists between exposure and cancer. The review summarizes input from the public on three questions regarding conditions relating to cancer for consideration under the WTC Health Program, as requested in the Federal Register on March 8, 2011 (76 FR 12740) and modified on March 29, 2011 (76 FR 17421). See http://www.cdc.gov/niosh/docket/archive/docket227.html.

The review also provides reports from the Mount Sinai School of Medicine, the Bureau of Health Services of the Fire Department of New York City, the WTC Health Registry of the New York City Department of Health and Mental Hygiene and the New York State Department of Health about cancer studies ongoing or planned.

Based on the scientific and medical findings in the peer-reviewed literature reported in the first periodic Review of Cancer for the WTC Health Program, insufficient evidence exists at this time to propose a rule to add cancer, or a certain type of cancer, to the List of WTC-Related Health Conditions found at 42 U.S.C. 300mm-22(a)(3) through (4) and 300mm-32(b).

FOR FURTHER INFORMATION CONTACT: Jessica Bilics, NIOSH, Patriots Plaza 1, 395 E Street, SW., Suite 9200, Washington, DC 20201, E-mail WTC@cdc.gov.

Dated: July 19, 2011.
John Howard,
Administrator, World Trade Center Health Program; and Director, National Institute for Occupational Safety and Health, Centers for Disease Control and Prevention.

[FR Doc. 2011-18754 Filed 7-26-11; 8:45 am]

BILLING CODE 4163-19-P